DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 29, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on March 1, 2018.
Donald Burger,
Chief, General Approvals and Permits Branch.

Application No. | Applicant | Regulation(s) affected | Nature of the special permits thereof
SPECIAL PERMITS DATA
6293-M | ATK LAUNCH SYSTEMS INC | 173.56(b) | To modify the special permit to authorize a change in water volume of a spent mixed acid by reducing the minimum water content to 16% by volume. (mode 1).
8009-M | FIBA TECHNOLOGIES, INC | 173.302a(a)(4), 178.37(k)(1), 178.37(k)(2)(i) | To modify the special permit to authorize additional permitted cylinders to be used for tensile testing. (modes 1, 2, 3).
8215-M | OLIN CORPORATION | 172.320, 173.212, 173.62(c) | To modify the special permit to add wetted KDNBF with water (approved as UN0473 under EX2010110501) to also be transported under the terms of the special permit. (modes 1, 2).
8451-M | KAMAN PRECISION PRODUCTS, INC | 172.320, 173.54(a), 173.54(j), 173.56(b), 173.57, 173.58, 173.60 | To modify the permit authorization to include cargo only aircraft. (modes 1, 4).
9847-M | FIBA TECHNOLOGIES, INC | 173.213, 173.302a(b)(2), 173.302a(b)(3), 173.302a(b)(4), 173.302a(b)(5), 180.205(c), 180.205(f), 180.205(g), 180.205(i), 180.209(a) | To modify the special permit to authorize UE testing of approved Canadian cylinders. (modes 1, 3).
9847-M | FIBA TECHNOLOGIES, INC | 173.213, 173.302a(b)(2), 173.302a(b)(3), 173.302a(b)(4), 173.302a(b)(5), 180.205(c), 180.205(f), 180.205(g), 180.205(i), 180.209(a) | To modify the special permit to authorize neck thread inspections in accordance with latest revision of CGA C-23. (modes 1, 3).
10922-M | FIBA TECHNOLOGIES, INC | 172.302(c), 173.302(a), 180.205, 180.207(d)(1) | To modify the special permit to authorize UE testing of approved Canadian cylinders. (modes 1, 2, 3, 4).
11110-M | UNITED PARCEL SERVICE CO | 171.8, 175.75 | To modify the special permit to authorize additional approved air carriers. (mode 4).
12412-M | MIDLAND CUSTOM APPLICATORS LLC | 177.83(h), 172.203(a), 172.302(c) | To modify the special permit to authorize hoses to be attached to discharge outlets during transportation while on private property. (mode 1).
12412-M | RAGSDALE SERVICES INC | 177.83(h), 172.203(a), 172.302(c) | To modify the special permit to authorize hoses to be attached to discharge outlets during transportation while on private property. (mode 1).
12607-M | FIBA TECHNOLOGIES, INC | 180.205(c), 180.205(f), 180.205(g), 180.215, 180.209(h), 180.209(k) | To modify the special permit to authorize UE testing on approved Canadian cylinders (modes 1, 2, 3, 4, 5).
14296-M | GASCON A DIVISION OF SOUTHEY HOLDINGS (PTY) LTD | 178.274(b), 178.276(b) | To authorize UN portable tanks that are designed, constructed, certified and stamped in accordance with Section VIII Division 2 latest edition of ASME Code. (modes 1, 2, 3).
14301-M | GASCON (PTY) LTD | 178.274(b), 178.276(b) | To modify the special permit to authorize portable tanks to be designed, constructed, certified and stamped in accordance with Section VIII Division 2 of the ASME Code. (modes 1, 2, 3).
14453-M | FIBA TECHNOLOGIES, INC | 180.209(a), 180.209(b), 180.209(b)(1)(iv) | To modify the special permit to authorize the UE testing of approved Canadian cylinders. (modes 1, 2, 3).
14661-M | FIBA TECHNOLOGIES, INC | 180.209(a), 180.209(b), 180.209(b)(1)(iv) | To modify the special permit to authorize UE testing of approved Canadian cylinders. (modes 1, 2, 3).
16231-M | THALES ALENIA SPACE | 173.301(f), 173.302a(a)(1), 173.304a(a)(2) | To modify the special permit to authorize batteries of up to 12 cells rather than only batteries with 12 cells (modes 1, 2, 3).
16490-M | DEMEX INTERNATIONAL, INC | 176.83, 176.63, 176.116(e), 176.120, 176.137(a)(7), 176.138(b), 176.144(e) | To modify the special permit to authorize the maximum quantity of explosives on a vessel to exceed the port maximum. (mode 3).
20283-M | LG CHEM | 172.101(j) | To modify the special permit to authorize a variant design of an authorized battery. (mode 4).
20284-M | SHARPS COMPLIANCE, INC | 171.101(j) | To modify the special permit to authorize cargo vessel as approved mode of transportation. (modes 1, 3).
20292-M | NUANCE SYSTEMS LLC | 173.181, 173.187, 173.201, 173.211, 173.302(a) | To modify the special permit to authorize a new design of the approved cylinders which will operate at higher temperatures. (modes 1, 2, 3).
20421-M | THE PROCTER & GAMBLE COMPANY | 172.200, 172.300, 172.400, 172.500, 173.304a(a), 174.1, 177.800 | To modify the special permit to authorize the transportation in commerce of plastic receptacles charged with liquefied gases, or a mixture of a liquefied and compressed gas, and which are exempted from marking, labeling, and shipping papers when shipped by motor vehicle or rail freight. (modes 1, 2, 4, 5).
20503-M | DYNO NOBEL INC | 177.835(a), 177.835(c)(3), 177.848(e)(2), 177.848(g)(3) | To modify the special permit to authorize additional packing groups for already authorized hazmat. (mode 1).
20541-M | ISGEC HEAVY ENGINEERING LTD | 179.300-19(a) | To modify the special permit to authorize changes to the shell and overall length of the tank cars. (modes 1, 2, 3).

[FR Doc. 2018-05131 Filed 3-13-18; 8:45 am]

BILLING CODE 4909-60-P